DEPARTMENT OF COMMERCE

National Oceanic and Atmospheric Administration

50 CFR Part 648

[240202-0033]

RIN 0648-XD495

Fisheries of the Northeastern United States; Atlantic Deep-Sea Red Crab Fishery; 2024 Atlantic Deep-Sea Red Crab Specifications

AGENCY: National Marine Fisheries Service (NMFS), National Oceanic and Atmospheric Administration (NOAA), Commerce.

ACTION: Final rule.

SUMMARY: NMFS is approving specifications for the 2024-2027 Atlantic deep-sea red crab fishery, including the annual catch limits and total allowable landings limits. This action implements the allowable 2024 harvest levels, consistent with the Atlantic Deep-Sea Red Crab Fishery Management Plan. This action is necessary to establish allowable red crab harvest levels that will prevent overfishing.

DATES: The final specifications for the 2024 Atlantic deep-sea red crab fishery are effective March 11, 2024, through February 28, 2025.

ADDRESSES: Copies of the supplemental information report, including the Regulatory Flexibility Act Analysis and other supporting documents for the specifications, are available from Dr. Cate O'Keefe, Executive Director, New England Fishery Management Council, 50 Water Street, Mill 2, Newburyport, MA 01950 or at https://www.nefmc.org/library/2024-2027-red-crab-specifications.

FOR FURTHER INFORMATION CONTACT: Allison Murphy, Fishery Policy Analyst, (978) 281-9122.

SUPPLEMENTARY INFORMATION:

Background

The Atlantic deep-sea red crab fishery is managed by the New England Fishery Management Council (Council). The Atlantic Deep-Sea Red Crab Fishery Management Plan (FMP) includes a specification process that requires the Council to recommend, on a triennial basis, an acceptable biological catch (ABC), an annual catch limit (ACL), and total allowable landings (TAL) every 4 years. The Council's Scientific and Statistical Committee (SSC) provides a recommendation to the Council for the ABC. The Council makes a recommendation to NMFS on the ABC, which cannot exceed the ABC recommendation made by the SSC.

Final Specifications

The biological and management reference points currently in the FMP are used to determine whether overfishing is occurring or if the stock is overfished. There is insufficient information on the species to establish the maximum sustainable yield, optimum yield, or overfishing limit. The ABC is defined in terms of landings instead of total catch because there is insufficient information to estimate dead discards of red crab. We are approving the Council-recommended specifications for the 2024-2027 fishing years that establish a 2,000-metric ton ABC, ACL, and TAL. This action implements these specifications for the 2024 fishing year.

At the end of each fishing year, we evaluate catch information and determine if the quota has been exceeded. If a quota is exceeded, the regulations at 50 CFR 648.262(b) require a pound-for-pound reduction of the quota in a subsequent fishing year. NMFS will publish a notice in the Federal Register of any revisions to the projected specifications if an overage occurs. Based on the performance of the 2023 red crab fishery, no adjustment is necessary for fishing year 2024. NMFS will provide notice of the final 2025-2027 quotas, and any necessary reductions, prior to the start of each respective fishing year.

Comments and Responses

The public comment period for the proposed rule (88 FR 83893, December 1, 2023) ended on January 2, 2024. No comments were received on the proposed rule.

Changes From the Proposed Rule

There are no changes from the proposed rule.

Classification

Pursuant to section 304(b)(1)(A) of the Magnuson-Stevens Act, the NMFS Assistant Administrator has determined that this final rule is consistent with the Atlantic Deep-Sea Red Crab FMP, other provisions of the Magnuson-Stevens Act, and other applicable law.

This final rule is exempt from review under Executive Order 12866.

The Chief Counsel for Regulation, Department of Commerce, certified to the Chief Counsel for Advocacy of the Small Business Administration (SBA) during the proposed rule stage that this action would not have a significant economic impact on a substantial number of small entities. The factual basis for the certification was published in the proposed rule and is not repeated here. No comments were received regarding this certification. As a result, a regulatory flexibility analysis was not required and none was prepared.

This action does not contain a collection of information requirement for purposes of the Paperwork Reduction Act.

Authority: 16 U.S.C. 1801 et seq.

Dated: February 2, 2024.
Samuel D. Rauch, III,
Deputy Assistant Administrator for Regulatory Programs, National Marine Fisheries Service.

[FR Doc. 2024-02516 Filed 2-7-24; 8:45 am]

BILLING CODE 3510-22-P